DEPARTMENT OF TRANSPORTATION

Federal Highway Administration

Environmental Impact Statement: Alexander, Johnson, Massac, Pulaski, and Union Counties, Illinois; Ballard and McCracken Counties, Kentucky; and Cape Girardeau, Scott, and Mississippi Counties, Missouri

AGENCY: Federal Highway Administration (FHWA), DOT.

ACTION: Notice of intent.

SUMMARY: The FHWA is issuing this notice to advise the public that a Tier 1 Environmental Impact Statement (EIS) will not be prepared for the 66 Corridor Project in Alexander, Johnson, Massac, Pulaski, and Union Counties, Illinois; Ballard and McCracken Counties, Kentucky; and Cape Girardeau, Scott, and Mississippi Counties, Missouri.

FOR FURTHER INFORMATION CONTACT: Catherine A. Batey, Division Administrator, Federal Highway Administration, 3250 Executive Park Drive, Springfield, Illinois 62703, Phone: (217) 492-4600. Jeffrey L. Keirn, P.E., Deputy Director of Highways, Region Five Engineer, Illinois Department of Transportation, State Transportation Building, 2801 W. Murphysboro, P.O. Box 100, Carbondale, Illinois 62903, (618) 549-2171.

SUPPLEMENTARY INFORMATION: The FHWA, in cooperation with the Illinois Department of Transportation (IDOT), published a notice of intent to prepare a Tier 1 EIS in the Federal Register dated May 21, 2014 (Volume 79, Number 98, pp. 29261-29262) to evaluate the need for an improved transportation system between Paducah, Kentucky and I-55 in Missouri.

The project is being cancelled and no further activities will occur for the 66 Corridor Project at this time.

Comments or questions concerning this notice should be directed to FHWA or IDOT at the addresses provided above.

Issued on: July 30, 2015.
Catherine A. Batey,
Division Administrator, Springfield, Illinois.

[FR Doc. 2015-19320 Filed 8-5-15; 8:45 am]

BILLING CODE 4910-22-P